DEPARTMENT OF DEFENSE

Department of the Army

[Docket ID: USA-2016-HQ-0005]

Proposed Collection; Comment Request

AGENCY: United States Army Medical Command, DoD.

ACTION: Notice.

SUMMARY: In compliance with the Paperwork Reduction Act of 1995, the Office of the Surgeon General, United States Army Medical Command (MEDCOM) announces a proposed public information collection and seeks public comment on the provisions thereof. Comments invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 25, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Jason Etchegaray and Heather Krull, RAND Corporation, 1776 Main Street, Santa Monica, CA 90401, or call (310) 393-0411 ext. 7648 for Jason Etchegaray and ext. 6445 for Heather Krull.

SUPPLEMENTARY INFORMATION: Title; Associated Form; and OMB Number: Core Competencies for Amputation Rehabilitation; OMB Control Number 0702-XXXX.

Needs and Uses: The information collection requirement is necessary to obtain, document, and assess the core competencies of health practitioners and teams caring for amputees who are undergoing rehabilitation.

Affected Public: Business or other for profit; Not-for-profit institutions.

Annual Burden Hours: 400.

Number of Respondents: 400.

Responses per Respondent: 1.

Annual Responses: 400.

Average Burden per Response: 1 hour.

Frequency: On occasion.

Respondents are healthcare providers and patients/family members. Healthcare providers consist of active duty providers, DoD civilian and contractor providers, VA providers, and civilian rehabilitation center providers. Individual interviews and focus groups with healthcare providers will be conducted either in-person or telephonically. Patients/family members consist of currently serving amputees, veteran amputees, and family members of amputees. Interviews with amputees and/or family members of amputees will be conducted either in-person or telephonically. Compiling, analyzing, and understanding responses of all the various perspectives of patient care is necessary to set a baseline of care, identify core competencies, services and support required for providers, patients and family members providing, accepting, or supporting amputation rehabilitation.

Dated: February 22, 2016.
Aaron Siegel,
Alternate OSD Federal Register Liaison Officer, Department of Defense.

[FR Doc. 2016-04008 Filed 2-24-16; 8:45 am]

BILLING CODE 5001-06-P